DEPARTMENT OF COMMERCE

National Oceanic and Atmospheric Administration

RIN 0648-XE938

Marine Mammals; File No. 20430

AGENCY: National Marine Fisheries Service (NMFS), National Oceanic and Atmospheric Administration (NOAA), Commerce.

ACTION: Notice; receipt of application.

SUMMARY: Notice is hereby given that James Harvey, Ph.D., Moss Landing Marine Laboratories, 8272 Moss Landing Road, Moss Landing, California 95039, has applied in due form for a permit to conduct research on blue (Balaenoptera musculus), fin (B. physalus), humpback (Megaptera novaeangliae), gray (Eschrichtius robustus), and sperm (Physeter microcephalus) whales, and Risso's dolphins (Grampus griseus).

DATES: Written, telefaxed, or email comments must be received on or before November 25, 2016.

ADDRESSES: The application and related documents are available for review by selecting “Records Open for Public Comment” from the “Features” box on the Applications and Permits for Protected Species (APPS) home page, https://apps.nmfs.noaa.gov, and then selecting File No. 20430 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Shasta McClenahan or Amy Hapeman, (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR 222-226).

The applicant is requesting a five-year permit to conduct research on large whales and dolphins in California waters. The primary objectives of this research project are to: (1) Relate distribution and abundance of cetaceans with environmental factors, (2) determine diet and foraging behaviors as they exploit prey resources, (3) determine types of acoustic behavior of marine mammals and how acoustic signals are affected by anthropogenic factors, and (4) determine the movements of individuals or pods during migrations or within their home range. Research activities for large whales will include passive acoustics, behavioral observations, photography, video recording, biopsy sampling, collection of sloughed skin, attachment of suction cup or dart/barb tags, and tracking during vessel surveys. Research for Risso's dolphins will include passive acoustics, behavioral observations, and photo-identification. The number of species to be taken annually via tagging/biopsy/photo-identification are: 50/100/150 blue whales, 40/90/140 fin whales, 50/100/150 humpback whales, 160/210/260 gray whales, and 0/0/2,000 Risso's dolphins. Up to five sperm whales may be incidentally harassed and opportunistically photographed, annually. Up to 200 California sea lions (Zalophus californianus), 20 harbor seals (Phoca vitulina richardii), 50 Pacific white-sided dolphins (Lagenorhynchus obliquidens), 20 northern right whale dolphins (Lissodelphis borealis), 10 harbor porpoise (Phocoena phocoena), and 20 short-beaked common dolphins (Delphinus delphis) may be harassed incidental to research activities.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: October 20, 2016.
Julia Harrison,
Chief, Permits and Conservation Division, Office of Protected Resources, National Marine Fisheries Service.

[FR Doc. 2016-25756 Filed 10-24-16; 8:45 am]

BILLING CODE 3510-22-P